DEPARTMENT OF THE INTERIOR

Public Meetings of the Invasive Species Advisory Committee

AGENCY: Office of the Secretary, Interior.

ACTION: Notice.

SUMMARY: Pursuant to the provisions of the Federal Advisory Committee Act, notice is hereby given of meetings of the Invasive Species Advisory Committee (ISAC). Comprised of 26 nonfederal invasive species experts and stakeholders from across the nation, the purpose of the Advisory Committee is to provide advice to the National Invasive Species Council, as authorized by Executive Order 13112, on a broad array of issues related to preventing the introduction of invasive species and providing for their control and minimizing the economic, ecological, and human health impacts that invasive species cause. The Council is co-chaired by the Secretary of the Interior, the Secretary of Agriculture, and the Secretary of Commerce. The duty of the Council is to provide national leadership regarding invasive species issues.

Purpose of Meeting: To convene the full ISAC and to provide expert input and recommendations to NISC federal agencies and their partners on invasive species matters of national importance. While in session, ISAC will: (1) Consider adoption of the white paper entitled, Addressing the Needs of Classical Biocontrol Programs, as proposed by ISAC's Subcommittee on Control and Management; (2) receive update of progress in Federal agency implementation of prior recommendations from ISAC as well as new Federal initiatives as outlined in the National Invasive Species Council Management Plan; and, (3) commence work on NISC priority initiatives through subcommittees (task teams) focused on: (a) Strengthening Federal/State coordination; (b) strengthening Federal/Tribal coordination; (c) identifying risks and opportunities for the application of gene editing as a means of eradication or controlling invasive species; (d) assessing implications of and needs to regulate invasive species that impact infrastructure; and, (e) assessing implications of and needs to regulate invasive species that impact wildlife health. The meeting agenda is available on the NISC Web site at http://www.doi.gov/invasivespecies/isac/isac-meetings.cfm. Supplemental reference materials will be posted on or about Monday, June 27, 2016.

DATES: Meeting of the Invasive Species Advisory Committee: Tuesday, July 12, 2016: 8:30 a.m. to 5:00 p.m.; Wednesday, July 13, 2016: 8:30 a.m. to 5:30 p.m.; Thursday, July 14, 2016; 8:00 a.m.-12:00 p.m.

ADDRESSES: Smithsonian Institution National Museum of the American Indian, 4th and Independence Avenue SW., Washington, DC 20560. The general session will be held in the Conference Center (4th Floor). NOTE: All meeting participants and interested members of the public must register their attendance online at http://goo.gl/forms/aCThKkCEqr0rOuaA3. Attendees must pass through security screening upon entering the facility.

FOR FURTHER INFORMATION CONTACT: Kelsey Brantley, National Invasive Species Council Program Specialist and ISAC Coordinator, Phone: (202) 208-4122; Fax: (202) 208-4118, email: Kelsey_Brantley@ios.doi.gov.

Dated: June 14, 2016.
Jamie K. Reaser,
Executive Director, National Invasive Species Council (NISC) Secretariat.

[FR Doc. 2016-14860 Filed 6-22-16; 8:45 am]

BILLING CODE 4334-63-P